DEPARTMENT OF EDUCATION

34 CFR Chapter III

Proposed Waiver and Extension of the Project Period for the National Individuals With Disabilities Education Act (IDEA) Technical Assistance Center on Early Childhood Longitudinal Data Systems

[Catalog of Federal Domestic Assistance (CFDA) Number: 84.373Z.]

AGENCY: Office of Special Education Programs (OSEP), Office of Special Education and Rehabilitative Services (OSERS), Department of Education.

ACTION: Proposed waiver and extension of the project period.

SUMMARY: The Secretary proposes to waive the requirements in the Education Department General Administrative Regulations that generally prohibit project periods exceeding five years and project period extensions involving the obligation of additional Federal funds. We take this action because this proposed waiver and extension of the project period would enable the current National IDEA Technical Assistance Center on Early Childhood Longitudinal Data Systems (Center), currently funded under the Technical Assistance on State Data Collection Program, to receive funding from October 1, 2017, through September 30, 2018.

DATES: We must receive your comments on or before March 29, 2017.

ADDRESSES: Address all comments about this proposed waiver and extension of the project period to Meredith Miceli, U.S. Department of Education, 400 Maryland Avenue SW., Room 5130, Potomac Center Plaza, Washington, DC 20202-5108.

If you prefer to send your comments by email, use the following address: Meredith.Miceli@ed.gov. You must include the phrase “Proposed waiver and extension of the project period” in the subject line of your message.

FOR FURTHER INFORMATION CONTACT: Meredith Miceli. Telephone: (202) 245-6028, or by email at: Meredith.Miceli@ed.gov.

If you use a telecommunications device for the deaf or a text telephone, call the Federal Relay Service, toll free, at 1-800-877-8339.

SUPPLEMENTARY INFORMATION: Invitation to Comment: We invite you to submit comments regarding this proposed waiver and extension. During and after the comment period, you may inspect all public comments about this proposed waiver and extension of the project period in Room 5130, 550 12th Street SW., Washington, DC, between the hours of 8:30 a.m. and 4:00 p.m., Washington, DC time, Monday through Friday of each week, except Federal holidays.

Assistance to Individuals with Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background

On August 8, 2012, the Department of Education (Department) published in the Federal Register (77 FR 47501) a notice inviting applications (2012 NIA) for a new award for fiscal year (FY) 2012 for one national technical assistance (TA) center. The National IDEA Technical Assistance Center on Early Childhood Longitudinal Data Systems was funded under the Technical Assistance on State Data Collection Program, authorized under section 611(c)(1) of the IDEA.

The purpose of the Center is to provide TA to States on the development and enhancement of statewide early childhood longitudinal data systems to improve States' capacity to collect, analyze, and report high-quality data required under sections 616 and 618 of IDEA. This Center provides TA to States on developing or enhancing statewide early childhood longitudinal data systems that horizontally link child-level data on infants, toddlers, and young children with disabilities (birth through age 5) in different early learning data systems (including those developed with funding provided by the Department's Race to the Top—Early Learning Challenge program); vertically link these child-level data to statewide longitudinal data systems (SLDS) for school-aged children (including those developed with funding provided by the Department's SLDS program); and meet the data system capabilities and elements described under paragraph (b) in the Technical Assistance and Dissemination Activities section of the 2012 NIA. These statewide early childhood longitudinal data systems should allow States to:

(a) Accurately and efficiently respond to IDEA-related data submission requirements (e.g., IDEA sections 616 and 618 requirements);

(b) Continuously improve processes for defining, acquiring, and validating the data; and

(c) Comply with applicable Federal, State, and local privacy laws, including the applicable requirements of the Family Educational Rights and Privacy Act and privacy requirements in parts B and C of the IDEA.

The TA provided by the Center focuses on building the State's capacity to report high-quality data to meet IDEA reporting requirements and is conducted in coordination with other SLDS work being conducted in the State.

Based on the selection criteria published in the 2012 NIA, the Department made one award for a period of 60 months to SRI International. The project period for the current Center is scheduled to end on September 30, 2017. The Center will continue to provide TA to States to support IDEA Part C and Part B preschool State programs' participation in the development or enhancement of integrated early childhood data systems. The Center will continue to:

(a) Generate useful products for State agencies that administer the IDEA part C and part B preschool program to use in the development and enhancement of State integrated early childhood data systems with linkages to the SLDS;

(b) Design and implement a continuum of TA services for State IDEA part C and part B preschool staff and other staff, employing strategies that are supported by evidence, useful, and cost-effective; and

(c) Provide national leadership and coordination around IDEA part C and part B preschool data systems and their inclusion in integrated early childhood and longitudinal State efforts to ensure efficiency and effectiveness of Federal and State resources.

We do not believe that it would be in the public interest to run a competition for a new Center at this time for a number of reasons.

First, extending the Center would ensure uninterrupted TA services in critically needed areas currently provided to States by the Center. We have concluded that it is not in the public interest to have a lapse in the resources currently provided by the Center because States have begun emerging work on data systems and need the Center to continue as a TA resource during this critical juncture. States need ongoing expert TA and support as they implement and coordinate data horizontally across different early childhood programs, especially in light of recent guidance and resources on early childhood data systems issued by both the Department and the Department of Health and Human Services (HHS). The Department recently highlighted the emerging work of States in The Integration of Early Childhood Data: State Profiles and Report from the U.S. Departments of Health and Human Services and Education.¹ In addition, the Department provided guidance on privacy requirements under parts C and B of the IDEA and the Family Educational Rights and Privacy Act in Understanding the Confidentiality Requirements Applicable to IDEA Early Childhood Programs Frequently Asked Questions,² and the Center provided TA to States on this guidance through a webinar and other resources. Finally, HHS issued new data-related regulations through its 2016 Head Start Performance Standards (45 CFR 1303 Subpart C) and the Child Care Development Fund (45 CFR part 98), and these regulations support the existing efforts of many States to develop or enhance early childhood data systems.

¹ Document available online at: http://www2.ed.gov/about/inits/ed/earlylearning/files/integration-of-early-childhood-data.pdf.

² Document available online at: http://www2.ed.gov/policy/speced/guid/idea/memosdcltrs/idea-confidentiality-requirements-faq.pdf.

Second, running a competition for a new Center for early childhood data would not be timely this year because the Center currently coordinates extensively with the work of the Technical Assistance on State Data Collection Program to more efficiently and effectively meet the vertical data coordination needs of States for serving children with disabilities from birth through age 21. An extension of the current grantee's project would align the end of the current Center's project period with the expiration of the project period for the technical assistance data center that assists States with data for school-aged children, namely the National Technical Assistance Center to Improve State Capacity to Accurately Collect and Report IDEA Data (CFDA number 84.373Y), and allow the Department to better coordinate overall its Technical Assistance on State Data Collection Program and ensure continued vertical data coordination for another year.

For these reasons, the Secretary proposes to waive the requirements in 34 CFR 75.250, which prohibit project periods exceeding five years, as well as the requirements in 34 CFR 75.261(a) and (c)(2), which allow the extension of a project period only if the extension does not involve the obligation of additional Federal funds. The waiver would allow the Department to issue a one-time FY 2017 continuation award of $6,500,000 to the Center originally funded in FY 2012.

Any activities carried out during the year of this continuation award would have to be consistent with, or a logical extension of, the scope, goals, and objectives of the grantee's application as approved in the 2012 competition. The requirements for continuation awards are set forth in the 2012 NIA and in 34 CFR 75.253.

Regulatory Flexibility Act Certification

The Secretary certifies that the proposed waiver and extension of the project period would not have a significant economic impact on a substantial number of small entities. The only entities that would be affected by the proposed waiver and extension of the project period are the current grantee and any other potential applicants.

The Secretary certifies that the proposed waiver and extension would not have a significant economic impact on these entities because the extension of an existing project period imposes minimal compliance costs, and the activities required to support the additional year of funding would not impose additional regulatory burdens or require unnecessary Federal supervision.

Paperwork Reduction Act of 1995

This notice of proposed waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: February 22, 2017.
Ruth E. Ryder,
Delegated the duties of the Assistant Secretary for Special Education and Rehabilitative Services.

[FR Doc. 2017-03810 Filed 2-24-17; 8:45 am]

BILLING CODE 4000-01-P